DEPARTMENT OF DEFENSE

Office of the Secretary

[Docket ID: DoD-2014-OS-0143]

Privacy Act of 1974; System of Records

AGENCY: Defense Finance and Accounting Service, DoD.

ACTION: Notice to add a new System of Records.

SUMMARY: The Defense Finance and Accounting Service proposes to add a new system of records, T5210, entitled “Account Management Provisioning System (AMPS)” to its inventory of record systems subject to the Privacy Act of 1974, as amended. This system will maintain information operations to control and track access to controlled networks, computer systems, and databases. The records may also be used by law enforcements officials to identify the occurrence of and assist in the prevention of computer misuse and/or crime. Statistical data, with all personal identifiers removed, may be used by management for system efficiency, workload calculation, or reporting purposes.

DATES: Comments will be accepted on or before November 17, 2014. This proposed action will be effective on the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Gregory Outlaw, (317) 212-4591.

SUPPLEMENTARY INFORMATION: The Defense Finance and Accounting Service notices for systems of records subject to the Privacy Act of 1974 (5 U.S.C. 552a), as amended, have been published in the Federal Register and are available from the address in FOR FURTHER INFORMATION CONTACT or from the Defense Privacy and Civil Liberties Office Web site at http://dpclo.defense.gov.

The proposed system report, as required by 5 U.S.C. 552a(r) of the Privacy Act of 1974, as amended, was submitted on November 28, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 14, 2014.
Aaron Siegel,
Alternate OSD Federal Register Liaison Officer, Department of Defense.

T5210

System name: Account Management Provisioning System (AMPS)

System location:

Defense Logistics Agency (DLA), 8000 Jefferson Davis Highway, Richmond, VA 23237-0000.

Categories of individuals covered by the system:

Defense Finance and Accounting Service (DFAS) civilian and military personnel requiring access to DFAS controlled networks, computer systems, and databases.

Categories of records in the system:

Individual's name; SSN (for individuals' not in possession of a Common Access Card (CAC) such as newly hired Federal employees); U.S. citizenship status (i.e., U.S. Citizen, Foreign National, other); physical and electronic address; work telephone numbers; office symbol; employee status; computer logon addresses, passwords, and user identification codes; type of access/permissions required; verification of need to know; dates of mandatory information assurance awareness training; and security clearance data. The system also captures details about programs, databases, functions, and sites accessed and/or used; dates and times of use; and information products created, received, or altered during use. The records may also contain details about access or functionality problems telephoned in for technical support along with resolution. For individuals who telecommute from home or a telework center, the records may contain the electronic address and telephone number at that location.

Authority for maintenance of the system:

5 U.S.C. 301, Departmental Regulations; 10 U.S.C. 133, Under Secretary of Defense for Acquisition, Technology, and Logistics, 18 U.S.C. 1029, Access Device Fraud; E.O. 10450, Security Requirements for Government Employees as amended; and E.O. 9397 (SSN), as amended.

Purpose(s):

To maintain information operations to control and track access to controlled networks, computer systems, and databases. The records may also be used by law enforcements officials to identify the occurrence of and assist in the prevention of computer misuse and/or crime. Statistical data, with all personal identifiers removed, may be used by management for system efficiency, workload calculation, or reporting purposes.

Routine uses of records maintained in the system, including categories of users and the purposes of such uses:

In addition to those disclosures generally permitted under 5 United States Code 552a(b) of the Privacy Act of 1974, as amended, these records contained therein may specifically be disclosed outside the Department of Defense as a routine use pursuant to 5 U.S.C. 552a(b)(3) as follows:

The DoD Blanket Routine Uses published at the beginning of the DFAS compilation of systems of records notices may apply to this system.

Policies and practices for storing, retrieving, accessing, retaining, and disposing of records in the system:

Storage:

Records are maintained on electronic storage media.

Retrievability:

Records are retrieved by name or user identification code.

Safeguards:

Electronic records are maintained in a secure, limited access, or monitored work area accessible only to authorized personnel. Records are stored on computer systems employing software programs that monitor network traffic to identify unauthorized attempts to upload or change information. Access to computer systems is password and/or Public Key Infrastructure controlled, encrypted and Common Access Card (CAC) enabled.

Retention and Disposal:

Records are deleted when no longer needed for administrative, legal, audit, or other operational purposes. Records relating to contractor access are destroyed 3 years after contract completion or termination.

System Manager(s) and Address:

Mr. Walter Gooch, System Manager, Defense Logistics Agency (DLA), 8000 Jefferson Davis Highway, Richmond, VA 23237-5339. Ms. Kenna Robinett, Program Manager, Defense Finance and Accounting Service (DFAS), 3990 E. Broad Street, Columbus, OH 43218-2317.

Notification Procedure:

Individuals seeking to determine whether information about themselves is contained in this record system should address written inquiries to the Defense Finance and Accounting Service, Freedom of Information/Privacy Act Program Manager, Corporate Communications, DFAS-ZCF/IN, 8899 E. 56th Street, Indianapolis, IN 46249-0150.

Requests should contain individual's full name, SSN for verification, current address, and provide a reasonable description of what they are seeking.

Record Access Procedures:

Individuals seeking access to information about themselves contained in this record system should address written inquiries to Defense Finance and Accounting Service, Freedom of Information/Privacy Act Program Manager, Corporate Communications, DFAS-ZCF/IN, 8899 E. 56th Street, Indianapolis, IN 46249-0150.

Request should contain individual's full name, SSN for verification, current address, and telephone number.

Contesting record procedures:

Individuals seeking access to information about themselves contained in this record system should address written inquiries to Defense Finance and Accounting Service, Freedom of Information/Privacy Act Program Manager, Corporate Communications, DFAS-ZCF/IN, 8899 E. 56th Street, Indianapolis, IN 46249-0150.

Request should contain individual's full name, SSN for verification, current address, and telephone number.

Record source categories:

From the individual concerned, and Department of Defense (DoD) Components.

Exemptions claimed for the system:

None.

[FR Doc. 2014-24765 Filed 10-16-14; 8:45 am]

BILLING CODE 5001-06-P